DEPARTMENT OF TRANSPORTATION

Pipeline and Hazardous Materials Safety Administration

Delayed Special Permit Applications

AGENCY: Office of Hazardous Materials Safety, Pipeline and Hazardous Materials Safety Administration (PHMSA), DOT.

ACTION: List of applications delayed more than 180 days.

SUMMARY: In accordance with the requirements of 49 U.S.C. 5117(c), PHMSA is publishing the following list of special permit applications that have been in process for 180 days or more. The reason(s) for delay and the expected completion date for action on each application is provided in association with each identified application.

FOR FURTHER INFORMATION CONTACT: Ryan Paquet, Director, Office of Hazardous Materials Special Permits and Approvals, Pipeline and Hazardous Materials Safety Administration, U.S. Department of Transportation, East Building, PHH-30, 1200 New Jersey Avenue Southeast, Washington, DC 20590-0001, (202) 366-4535.

Key to “Reason for Delay”

1. Awaiting additional information from applicant

2. Extensive public comment under review

3. Application is technically complex and is of significant impact or precedent-setting and requires extensive analysis

4. Staff review delayed by other priority issues or volume of special permit applications

Meaning of Application Number Suffixes

N—New application

M—Modification request

R—Renewal Request

P—Party to Exemption Request

Issued in Washington, DC, on August 19, 2016.
Donald Burger,
Chief, General Approvals and Permits.

Application No. | Applicant | Reason for delay | Estimated date of completion
MODIFICATION TO SPECIAL PERMITS
15537-M | Alaska Pacific Powder Company, Watkins, CO | 4 | 08-31-2016
13192-M | Thomas Gray & Associates, Inc., Orange, CA | 4 | 08-31-2016
13173-M | Luxfer Canada Limited, Calgary, AB | 4 | 08-31-2016
15610-M | TechKnowServ Corp., State College, PA | 4 | 08-31-2016
New Special Permit Applications
16620-N | Westeel Canada Inc., Winnipeg, Canada | 4 | 08-31-2016
16524-N | Quantum Fuel Systems Technologies Worldwide, Inc., Lake Forest, CA | 4 | 08-31-2016
15767-N | Union Pacific Railroad Company, Omaha, NE | 3 | 08-31-2016
Party to Special Permits Application
12412-P | Seaco Technologies, Inc., Bakersfield, CA | 4 | 08-31-2016

[FR Doc. 2016-20589 Filed 8-30-16; 8:45 am]

BILLING CODE 4910-60-M